DEPARTMENT OF ENERGY

Federal Energy Regulatory Commission

[Project No. 6398-024]

Hackett Mills Hydro Associates; Notice of Intent To File License Application, Filing of Pre-Application Document, Approving Use of the Traditional Licensing Process

a. Type of Filing: Notice of Intent to File License Application and Request to Use the Traditional Licensing Process.

b. Project No.: 6398-024.

c. Date Filed: August 29, 2019.

d. Submitted By: Hackett Mills Hydro Associates.

e. Name of Project: Hackett Mills Project.

f. Location: On the Little Androscoggin River in the towns of Poland and Minot, in Androscoggin County, Maine.

g. Filed Pursuant to: 18 CFR 5.3 of the Commission's regulations.

h. Potential Applicant Contact: Michael Scarzello, Eagle Creek Renewable Energy, 116 N State Street, P.O. Box 167, Neshkoro, WI 54960-0167; (973) 998-8400; email—Michael.Scarzello@eaglecreekre.com.

i. FERC Contact: Karen Sughrue at (202) 502-8556; or email at karen.sughrue@ferc.gov.

j. Hackett Mills Hydro Associates filed its request to use the Traditional Licensing Process on August 29, 2019. Hackett Mills Hydro Associates provided public notice of its request on August 28, 2019. In a letter dated October 28, 2019, the Director of the Division of Hydropower Licensing approved Hackett Mills Hydro Associates' request to use the Traditional Licensing Process.

k. With this notice, we are initiating informal consultation with the U.S. Fish and Wildlife Service and/or NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the Maine State Historic Preservation Officer, as required by section 106, National Historic Preservation Act, and the implementing regulations of the Advisory Council on Historic Preservation at 36 CFR 800.2.

l. With this notice, we are designating Hackett Mills Hydro Associates as the Commission's non-federal representative for carrying out informal consultation pursuant to section 7 of the Endangered Species Act and section 305(b) of the Magnuson-Stevens Fishery Conservation and Management Act; and consultation pursuant to section 106 of the National Historic Preservation Act.

m. Hackett Mills Hydro Associates filed a Pre-Application Document (PAD; including a proposed process plan and schedule) with the Commission, pursuant to 18 CFR 5.6 of the Commission's regulations.

n. A copy of the PAD is available for review at the Commission in the Public Reference Room or may be viewed on the Commission's website (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

o. Register online at http://www.ferc.gov/docs-filing/esubscription.asp to be notified via email of new filing and issuances related to this or other pending projects. For assistance, contact FERC Online Support.

Dated: October 28, 2019.
Kimberly D. Bose,
Secretary.

[FR Doc. 2019-23982 Filed 11-1-19; 8:45 am]

BILLING CODE 6717-01-P